DEPARTMENT OF THE INTERIOR

Fish and Wildlife Service

50 CFR Part 17

[Docket No. FWS-R6-ES-2013-0120; 4500030113]

Endangered and Threatened Wildlife and Plants; Initiation of Status Review of Arctic Grayling in the Upper Missouri River System

AGENCY: Fish and Wildlife Service, Interior.

ACTION: Notice of initiation of status review.

SUMMARY: We, the U.S. Fish and Wildlife Service (Service), under the authority of the Endangered Species Act of 1973, as amended (Act), announce the initiation of a status review of the Arctic grayling (Thymallus arcticus) upper Missouri River system distinct population segment (DPS). We conduct status reviews to determine whether the entity meets the definition of an endangered or threatened species under the Act. Following this status review, we will issue a proposed listing rule or a not warranted finding for the Arctic grayling upper Missouri River system DPS. Through this document, we encourage all interested parties to provide us information regarding the Arctic grayling in the upper Missouri River basin.

DATES: To allow us adequate time to conduct this review, we request that we receive information no later than December 26, 2013. Information submitted electronically using the Federal eRulemaking Portal (see ADDRESSES section, below) must be received by 11:59 p.m. Eastern Time on the closing date. After December 26, 2013, you must submit information using the U.S. mail or hand-delivery option provided in the ADDRESSES section below. Please note that we may not be able to address or incorporate information that we receive after the above requested date.

ADDRESSES: You may submit information by one of the following methods:

(1) Electronically: Go to the Federal eRulemaking Portal: http://www.regulations.gov. In the Search box, enter FWS-R6-ES-2013-0120, which is the docket number for this rulemaking. Then, in the Search panel on the left side of the screen, under the Document Type heading, click on the Proposed Rules link to locate this document. You may submit a comment by clicking on “Comment Now!”

(2) By hard copy: Submit by U.S. mail or hand-delivery to: Public Comments Processing, Attn: FWS-R6-ES-2013-0120; Division of Policy and Directives Management; U.S. Fish and Wildlife Service; 4401 N. Fairfax Drive, MS 2042-PDM; Arlington, VA 22203.

We request that you send information only by the methods described above. We will post all submissions on http://www.regulations.gov. This generally means that we will post any personal information you provide us (see the Request for Information section below for more information).

FOR FURTHER INFORMATION CONTACT: Jodi Bush, Field Supervisor, Montana Field Office, 585 Shepard Way, Suite 1, Helena, MT 59601; telephone (406) 449-5225, extension 205. If you use a telecommunications device for the deaf (TDD), please call the Federal Information Relay Service (FIRS) at 1-800-877-8339.

SUPPLEMENTARY INFORMATION:

Background

The Arctic grayling is a fish belonging to the family Salmonidae (salmon, trout, charr, whitefishes), subfamily Thymallinae (graylings), and is represented by a single genus, Thymallus (Scott and Crossman 1973, pp. 301-302; Behnke 2002, pp. 327-331). Arctic grayling have long, thin bodies with deeply forked tails, and adults typically average 254 to 330 millimeters (10 to 13 inches) in length. Coloration varies from silvery or iridescent blue and lavender, to dark blue (Behnke 2002, pp. 327-328). Arctic grayling have a prominent sail-like dorsal fin, which is large and vividly colored with rows of orange to bright green spots, and often has an orange border. Dark spots often appear on the body toward the head (Behnke 2002, pp. 327-328).

Arctic grayling are native to Arctic Ocean drainages of northwestern Canada and Alaska; the Peace, Saskatchewan, and Athabasca River drainages in Alberta, eastward to Hudson Bay and westward to the Bering Straits; and eastern Siberia and northern Eurasia (Scott and Crossman 1973, pp. 301-302). Arctic grayling also are native to Pacific coast drainages of Alaska and Canada as far south as the Stikine River in British Columbia (Scott and Crossman 1973, pp. 301-302; Nelson and Paetz 1991, pp. 253-256; Behnke 2002, pp. 327-331).

Pleistocene glaciations isolated two North American populations of Arctic grayling outside of Canada and Alaska (Vincent 1962, pp. 23-31). One population occurred in streams and rivers of the Great Lakes region of northern Michigan, but was extirpated in the 1930s (Hubbs and Lagler 1949, p. 44; Scott and Crossman 1973, p. 301). The second population (Arctic grayling of the upper Missouri River) inhabits watersheds in the upper Missouri River basin upstream of Great Falls, Montana. This population is the subject of our status review.

Previous Federal Actions

We have reviewed the status of the Arctic grayling several times since 1982. Most recently, on September 8, 2010, we published a revised 12-month finding for the Arctic grayling (75 FR 54708). In that finding, we determined that fluvial (stream dwelling) and adfluvial (residing in lakes and spawning in streams) Arctic grayling of the upper Missouri River did constitute a DPS under the Act. Therefore, we found that the upper Missouri River DPS was a listable entity under the Act, and we further found that listing the DPS was warranted but precluded by higher priority listing actions.

On May 10, 2011, we filed a multiyear work plan as part of a proposed settlement agreement with Wild Earth Guardians and others in a consolidated case in the U.S. District Court for the District of Columbia. On September 9, 2011, the Court accepted our agreement with the plaintiffs in Endangered Species Act Section 4 Deadline Litig., Misc. Action No. 10-377 (EGS), MDL Docket No. 2165 (D. DC) (known as the “MDL case”), which requires the Service to submit to the Federal Register for publication either a proposed rule or a not-warranted finding for the Arctic grayling on or before September 30, 2014.

For additional information on the biology or previous Federal actions on the Arctic grayling, including Federal actions prior to 2010, see the September 8, 2010, revised 12-month finding (75 FR 54708).

Request for Information

To ensure that the status review and, if warranted, our subsequent listing determination are based on the best available scientific and commercial information, and to provide an opportunity to any interested parties to provide information for consideration during the status assessment, we are requesting information concerning the Arctic grayling in the upper Missouri River system. We request information from other concerned governmental agencies, Native American tribes, the scientific community, industry, and any other interested party. Specifically, we are seeking:

(1) General information concerning the taxonomy, biology, ecology, genetics, and status of the Arctic grayling of the upper Missouri River system.

(2) Specific information on the conservation status of Arctic grayling in the upper Missouri River system, including information on distribution, abundance, and population trends.

(3) Specific information on factors that that may affect the continued existence of the Arctic grayling in the upper Missouri River, which may include habitat modification or destruction, overutilization, disease, predation, the inadequacy of existing regulatory mechanisms, or other natural or manmade factors.

(4) Specific information on planned and ongoing conservation actions designed to improve Arctic grayling habitat or reduce threats to Arctic grayling in the upper Missouri River system.

(5) Habitat selection, use, and any changes or trends in the amount and distribution of Arctic grayling habitat.

(6) Habitat requirements for feeding, breeding, and sheltering, including particular physical or biological features that are essential to the conservation of Arctic grayling and where such physical or biological features are found.

(7) Whether any of these features may require special management considerations or protection.

(8) Specific areas outside the geographical area occupied by the DPS that may be essential for the conservation of the Arctic grayling in the upper Missouri River system.

(9) The possible benefits and impacts (including economic impacts) of a possible critical habitat designation for the Arctic grayling.

(10) Whether the designation of critical habitat for the Arctic grayling would be beneficial to the conservation of the Arctic grayling in the upper Missouri River system or whether the identification of specific areas as critical habitat may increase threats to the DPS or its habitat.

If you submit information, we request you support it with documentation such as data, maps, bibliographic references, methods used to gather and analyze the data, or copies of any pertinent publications, reports, or letters by knowledgeable sources. Section 4(b)(1)(A) of the Act directs that determinations as to whether any species is an endangered or threatened species must be made “solely on the basis of the best scientific and commercial data available.”

You may submit your information concerning this status review by one of the methods listed in the ADDRESSES section. If you submit information that includes personal identifying information, you may request at the top of your document that we withhold this personal identifying information from public review. However, we cannot guarantee that we will be able to do so.

References Cited

A complete list of all the references cited in this document is available on the Internet at http://www.regulations.gov and upon request from the Field Supervisor, Montana Field Office (see FOR FURTHER INFORMATION CONTACT).

Authors

The primary authors of this document are staff members of the Montana Field Office of the U.S. Fish and Wildlife Service.

Authority

The authority for this action is the Endangered Species Act of 1973, as amended (16 U.S.C. 1531 et seq.).

Dated: November 12, 2013.
Stephen Guertin,
Acting Director, Fish and Wildlife Service.

[FR Doc. 2013-28171 Filed 11-25-13; 8:45 am]

BILLING CODE 4310-55-P